FEDERAL MARITIME COMMISSION

Ocean Transportation Intermediary License; Revocations

The Federal Maritime Commission hereby gives notice that the following ocean transportation intermediary licenses have been revoked pursuant to section 19 of the Shipping Act of 1984 (46 U.S.C. app. 1718) and the regulations of the Commission pertaining to the licensing of Ocean Transportation Intermediaries, effective on the corresponding dates shown below:

License Number: 13917N.

Name: Best Efforts Express, Inc.

Address: 177-25 Rockway Blvd., Rm. 203, Jamaica, NY 11434.

Date Revoked: January 18, 2001.

Reason: Failed to maintain a valid bond.

License Number: 16811F.

Name: Chemo International, Inc.

Address: 8100 N.W. 68th Street, Miami, FL 33166.

Date Revoked: December 16, 2000.

Reason: Failed to maintain a valid bond.

License Number: 11486N.

Name: CHR Greene International Company d/b/a Green Sea-Trailer Line.

Address: 8100 Mitchell Road, Suite 200, Eden Prairie, MN 55344.

Date Revoked: January 13, 2001.

Reason: Failed to maintain a valid bond.

License Number: 563F.

Name: Frances J. Calabro d/b/a Seven Seas Mercantile Transport Co.

Address: 200 Spring Street, New York, NY 10012.

Date Revoked: January 20, 2001.

Reason: Failed to maintain a valid bond.

License Number: 16429N.

Name: Global Consolidation Services, LLC.

Address: 200 Middlesex Avenue, Carteret, NJ 07008.

Date Revoked: January 12, 2001.

Reason: Failed to maintain a valid bond.

License Number: 4607F.

Name: Jolaco Maritime Services Inc.

Address: 3620 Willow Bend, Suite 1102, Houston, TX 77054.

Date Revoked: January 7, 2001.

Reason: Failed to maintain a valid bond.

License Number: 14390N.

Name: KAI Express Inc.

Address: 925 S. Atlantic Blvd., Suite #206, Monterey Park, CA 91754.

Date Revoked: January 3, 2001.

Reason: Failed to maintain a valid bond.

License Number: 4444F.

Name: Lloyd International, Inc.

Address: 931 Main Street, Norwell, MA 02061.

Date Revoked: January 10, 2001.

Reason: Failed to maintain a valid bond.

License Number: 15483N.

Name: Manna Freight Systems, Inc.

Address: 2440 Enterprise Drive, Mendota Heights, MN 55120.

Date Revoked: January 18, 2001.

Reason: Failed to maintain a valid bond.

License Number: 2714N and 2714F.

Name: Oceangate Forwarding, Inc. d/b/a Oceangate Container Line.

Address: 19401 S. Main Street, Suite 102, Gardena, CA 90248

Date Revoked: January 7, 2001 and January 18, 2001.

Reason: Failed to maintain valid bonds.

License Number: 1770F.

Name: Svetlana Cirilov d/b/a Lana International.

Address: 11099 S. La Cienega Blvd., Suite 185, Los Angeles, CA 90045.

Date Revoked: January 6, 2001.

Reason: Failed to maintain a valid bond.

License Number: 3863N.

Name: Tera Trading Group, Inc. d/b/a T.T.G. International Freight Forwarders.

Address: 1850 N.W. 82nd Avenue, Miami, FL 33126.

Date Revoked: January 14, 2001.

Reason: Failed to maintain a valid bond.

License Number: 15089N.

Name: World Express Air/Sea Inc.

Address: Yangji Bldg., 2nd Floor, 162-6 Dongkyo-Dong, Mapo-Ku, Seoul, Korea.

Date Revoked: December 7, 2000.

Reason: Failed to maintain a valid bond.

License Number: 10845N.

Name: Worldstar Cargo Management, Inc.

Address: 19851 E. Valley Blvd., Walnut, CA 91789.

Date Revoked: January 11, 2001.

Reason: Failed to maintain a valid bond.

Sandra L. Kusumoto,
Director, Bureau of Consumer Complaints and Licensing.

[FR Doc. 01-3768 Filed 2-13-01; 8:45 am]

BILLING CODE 6730-01-P